DEPARTMENT OF HOMELAND SECURITY

Coast Guard

33 CFR Part 100

[Docket Number USCG-2013-0272]

RIN 1625-AA08

Special Local Regulations; Marine Events in the Seventh Coast Guard District

AGENCY: Coast Guard, DHS.

ACTION: Final rule.

SUMMARY: The Coast Guard is updating the regulation that governs recurring special local regulations in the Seventh Coast Guard District. These regulations will apply to all recurring events held on navigable waters of the Seventh District, such as regattas and parades. This update is to ensure that all known recurring marine events are included in the final regulation and to allow respective Captains of the Port greater ease in enacting or modifying those portions of the regulation which apply to their respective areas.

DATES: This rule is effective July 13, 2016.

ADDRESSES: To view documents mentioned in this preamble as being available in the docket, go to http://www.regulations.gov, type USCG-2013-0272 in the “SEARCH” box and click “SEARCH.” Click on Open Docket Folder on the line associated with this rule.

FOR FURTHER INFORMATION CONTACT: If you have questions about this final rulemaking, call or email Eugene Stratton, Coast Guard District Seven Waterways Management, (305) 415-6750, email Eugene.Stratton@uscg.mil or Lieutenant Commander Brendan Sullivan, Coast Guard District Seven Legal, U.S. Coast Guard; telephone (305) 415-6957, email Brendan.Sullivan@uscg.mil.

SUPPLEMENTARY INFORMATION:

I. Table of Abbreviations

CFR Code of Federal Regulations

DHS Department of Homeland Security

E.O. Executive order

FR Federal Register

NPRM Notice of proposed rulemaking

Pub. L. Public Law

§ Section

U.S.C. United States Code

COTP Captain of the Port

II. Background, Purpose, and Legal Basis

On January 25, 2008, 33 CFR 100.701 was published in the Federal Register (73 FR 4461) to provide permanent notice of recurring marine events in the Seventh Coast Guard District. Since that time, it was amended, (March 14, 2012 (77 FR 14962)) to remove several lines in Table 100.701 with incorrect information and to add lines regarding marine event dates, geographic locations, and corresponding regulated areas. The Coast Guard is now revising the table of events contained within this regulation to ensure that it accurately captures all recurring marine events in the Seventh Coast Guard District and to allow respective Captains of the Port greater ease in managing events occurring in their zones.

On January 21, 2016, the Coast Guard published a notice of proposed rulemaking (NPRM) titled Special Local Regulations; Marine Events in the Seventh Coast Guard District; 81 FR 3362. There we stated why we issued the NPRM, and invited comments on our proposed regulatory action related to this fireworks display. During the comment period that ended February 22, 2016, we received zero comments.

III. Legal Authority and Need for Rule

33 U.S.C. 1233 provides the legal basis for the Coast Guard's authority to establish special local regulations. The purpose of the rule is to provide for the safety of life on the navigable waters of the Seventh Coast Guard District during recurring marine events.

IV. Discussion of Comments, Changes, and the Rule

As noted above, we received no comments on our NPRM published January 21, 2016. The final regulatory text implemented through this rule made two minor changes to the table proposed rule in the NPRM. First, the Gasparilla Boat Parade proposed under the COTP Zone St. Petersburg, 33 CFR 100.701(d)(2), was deleted because it is largely duplicative of the Annual Gasparilla Marine Parade regulation currently implemented under 33 CFR 100.734. Second, language describing the location of the Charleston Harbor Christmas Parade of Boats in 33 CFR 100.734(g)(6) was changed to reflect the renaming of “Shutes Folly” to “Bennis Reach.” No other changes were made to the text proposed in the NPRM.

This rule revises the list of permanent special regulations contained in 33 CFR 100.701 for recurring marine events within the geographic boundary of the Seventh Coast Guard District. In general, the Seventh Coast Guard District is comprised of the land areas and U.S. navigable waters adjacent to South Carolina, Georgia, Florida, and Puerto Rico. For a detailed description of the geographical area of the District and each Coast Guard Sector, please refer to 33 CFR 3.35.

At present, there are many annually recurring marine events within the Seventh Coast Guard District. These events are currently listed in a single table, with no demarcation by which to easily identify specific events. This amendment to the regulation includes breaking the table into seven distinct sections, one for each Captain of the Port (COTP) zone. Each event within each COTP section will be assigned a line number, which will result in each event being easily identifiable based on its location within a table and line thereby making future editing or enforcement of any event a more streamlined process.

Additionally, the Coast Guard seeks to update the regulation to ensure that it accurately reflects all recurring events within the Seventh District, to include marine events which started on a recurring basis since the last revision of this regulation and any marine events which may have been left off of the last revision.

Amendments to this rule will reduce the administrative burden on the Coast Guard by ensuring all recurring events are represented in the table and by minimizing the need to duplicate the rulemaking process for repeat events. Generally, the public will be advised of these events and specific information, including exact dates, specific areas, and description of the regulated area, through Local Notice to Mariners and Broadcast Notice to Mariners. The notices will contain the following information:

(i) Name and sponsoring organization of event;

(ii) Expected number of participants;

(iii) Course of event;

(iv) Regulated area;

(v) Spectator Area, if applicable; and

(vi) Dates and times of event and enforcement of regulations.

The Coast Guard realizes that some large scale events, such as those with many participants or spectators, or those that could severely restrict navigation or pose a significant hazard, may still require separate special local regulations or safety zones that address the specific peculiarities of the event. In those situations, the Coast Guard will create special local regulations or safety zones specifically for the event, and those regulations will supersede the final regulations in this rule. However, the Coast Guard believes that a majority of the events held on the waters of the Seventh Coast Guard District may be adequately regulated by the requirements of this final rule.

Due to the activities involved, the large number of participants and spectators present, and event locations, the Coast Guard has determined that the events listed in this rule could pose a risk to participants or waterway users if normal vessel traffic were to interfere with the event. Possible hazards include risks of participant injury or death resulting from near or actual contact with non-participant vessels transiting through the regulated areas. In order to protect the safety of all waterway users including event participants and spectators, this final rule would establish special local regulations for the time and location of each marine event.

This final rule will prevent vessels from entering, transiting, mooring or anchoring within areas specifically designated as regulated areas during the periods of enforcement unless authorized by the Captain of the Port, or designated Coast Guard Patrol Commander. A designated “Patrol Commander” includes Coast Guard commissioned, warrant, or petty officers who have been designated by the Captain of the Port to act on their behalf. Patrol Commanders may be augmented by local, State, or Federal officials authorized to act in support of the Coast Guard.

Only event sponsors, designated participants, and official patrol vessels will be allowed to enter regulated areas unless otherwise given permission by the Patrol Commander or the Captain of the Port. Spectators may be confined to a designated spectator area to view events. Spectators may contact the Coast Guard Patrol Commander to request permission to pass through the regulated area. If permission is granted, spectators must pass directly through the regulated area at safe speed and without loitering.

The Coast Guard revises 33 CFR 100.701 by adding 18 new recurring marine events as special local regulations listed in this section. Furthermore, the Coast Guard modifies 14 existing regulated areas and removes 111 regulated areas that are no longer active.

V. Regulatory Analyses

We developed this final rule after considering numerous statutes and executive orders (E.O.s) related to rulemaking. Below we summarize our analyses based on a number of these statutes and E.O.s, and we discuss First Amendment rights of protestors.

A. Regulatory Planning and Review

E.O.s 12866 and 13563 direct agencies to assess the costs and benefits of available regulatory alternatives and, if regulation is necessary, to select regulatory approaches that maximize net benefits. E.O. 13563 emphasizes the importance of quantifying both costs and benefits, of reducing costs, of harmonizing rules, and of promoting flexibility. This rule has not been designated a “significant regulatory action,” under E.O. 12866. Accordingly, the rule has not been reviewed by the Office of Management and Budget.

This regulatory action determination is based on the following factors: (1) The regulations will be enforced for short, predefined periods of time; (2) persons and vessels may enter, transit through, anchor in or otherwise access the restricted areas with authorization from the respective Captains of the Port; (3) the Coast guard will provide advance notification of the regulations to the local community by issuing Notice of Enforcements, Broadcast Notice to Mariners, and Patrol Commanders. Moreover, in the majority of cases, vessels will be able to safely transit around restricted areas.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this final rule would not have a significant economic impact on a substantial number of small entities.

While some owners or operators of vessels intending to transit the safety zone may be small entities, for the reasons stated in section IV.A above this final rule would not have a significant economic impact on any vessel owner or operator.

Under section 213(a) of the Small Business Regulatory Enforcement Fairness Act of 1996 (Pub. L. 104-121), we want to assist small entities in understanding this final rule. If the rule would affect your small business, organization, or governmental jurisdiction and you have questions concerning its provisions or options for compliance, please contact the person listed in the FOR FURTHER INFORMATION CONTACT section. The Coast Guard will not retaliate against small entities that question or complain about this final rule or any policy or action of the Coast Guard.

C. Collection of Information

This final rule would not call for a new collection of information under the Paperwork Reduction Act of 1995 (44 U.S.C. 3501-3520).

D. Federalism and Indian Tribal Governments

A rule has implications for federalism under E.O. 13132, Federalism, if it has a substantial direct effect on the States, on the relationship between the national government and the States, or on the distribution of power and responsibilities among the various levels of government. We have analyzed this final rule under that Order and have determined that it is consistent with the fundamental federalism principles and preemption requirements described in E.O. 13132.

Also, this final rule does not have tribal implications under E.O. 13175, Consultation and Coordination with Indian Tribal Governments, because it would not have a substantial direct effect on one or more Indian tribes, on the relationship between the Federal Government and Indian tribes, or on the distribution of power and responsibilities between the Federal Government and Indian tribes. If you believe this final rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this final rule would not result in such an expenditure, we do discuss the effects of this rule elsewhere in this preamble.

F. Environment

We have analyzed this final rule under Department of Homeland Security Management Directive 023-01 and Commandant Instruction M16475.lD, which guide the Coast Guard in complying with the National Environmental Policy Act of 1969 (42 U.S.C. 4321-4370f), and have made a preliminary determination that this action is one of a category of actions that do not individually or cumulatively have a significant effect on the human environment. This final rule involves amending and republication of a table of recurring marine events for special regulations issued in conjunction with a regatta or marine parade. The events themselves are permitted by the Coast Guard before this regulation would be utilized and the permitting process involves a thorough environmental review. Normally such actions are categorically excluded from further review under paragraph 34(h) of Figure 2-1 of Commandant Instruction M16475.lD. A preliminary environmental analysis checklist and Categorical Exclusion Determination are available in the docket where indicated under ADDRESSES. We seek any comments or information that may lead to the discovery of a significant environmental impact from this final rule.

G. Protest Activities

The Coast Guard respects the First Amendment rights of protesters. Protesters are asked to contact the person listed in the FOR FURTHER INFORMATION CONTACT section to coordinate protest activities so that your message can be received without jeopardizing the safety or security of people, places, or vessels.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233.

2. Amend section 100.701 by revising Table 1 to Sec. 100.701 to read as follows:

§ 100.701 Special Local Regulations; Marine Events in the Seventh Coast Guard District.

* * * * *

Table to § 100.701
No./date | Event | Sponsor | Location
1. 2nd or 3rd Weekend in June | Rotary Club of Fort Lauderdale New River Raft Race | Rotary Club of Fort Lauderdale | All waters of the New River contained within the following points: Starting at Point 1 in position 26°07′10″ N., 80°08′52″ W.; thence southeast to Point 2 in position 26°07′05″ N., 80°08′34″ W.; thence southwest to Point 3 in position 26°07′04″ N., 80°08′35″ W.; thence northwest to Point 4 in position 26°07′08″ N., 80°08′52″ W.; thence north back to origin.
2. 2nd or 3rd weekend in April | Stuart Sailfish Regatta | Stuart Sailfish, Inc | All waters of Indian River located northeast of Ernest Lyons Bridge and south of Joes Cove that are encompassed within a line connecting the following points, with the exception of the spectator area: Starting at Point 1 in position 27°12′47″ N., 80°11′43″ W.; thence southeast to Point 2 in position 27°12′22″ N., 80°11′28″ W.; thence northeast to Point 3 in position 27°12′35″ N., 80°11′00″ W.; thence northwest to Point 4 in position 27°12′47″ N., 80°11′04″ W.; thence northeast to Point 5 in position 27°13′05″ N., 80°11′01″ W.; thence southeast back to origin.
3. 2nd or 3rd week in April | Ft. Lauderdale Air Show | Lauderdale Air Show LLC | (1) Exclusion area. All waters of the Atlantic Ocean in the vicinity of Fort Lauderdale, Florida that are encompassed within a line connecting the following points: Starting at Point 1 in position 26°10′39″ N., 80°05′47″ W.; thence southeast to Point 2 in position 26°10′32″ N., 80°04′39″ W.; thence southwest to Point 3 in position 26°06′33″ N., 80°05′08″ W.; thence northwest to Point 4 in position 26°06′40″ N., 80°06′15″ W.; thence northeast back to origin. All persons and vessels, except those persons and vessels participating in the event, are prohibited from entering, transiting through, anchoring in, or remaining within the exclusion area.
|  |  | (2) Limited access area. All waters of the Atlantic Ocean in the vicinity of Fort Lauderdale, Florida that are encompassed within a line connecting the following points: Starting at Point 1 in position 26°05′41″ N., 80°06′59″ W.; thence southeast to Point 2 in position 26°05′26″ N., 80°06′51″ W.; thence northeast to Point 3 in position 26°05′32″ N., 80°05′24″ W.; thence north to Point 4 in position 26°05′42″ N., 80°05′24″ W.; thence southwest back to origin. All vessels 500 gross tons or greater are prohibited from entering, transiting through, anchoring in, or remaining within the regulated area unless authorized by the Captain of the Port Miami or a designated representative.
4. 2nd or 3rd weekend in April | Red Bull Candola | Red Bull North America | All waters of the New River between the Esplanade Park and slightly east of the South Andrews Avenue Bascule Bridge encompassed between the following points: Point 1 in position 26°07′09″ N., 80°08′52″ W. and Point 2 in position 26°07′04″ N., 80°08′34″ W.
5. 2nd or 3rd weekend in May | Miami Superboat Grand Prix | Super Boat International Productions, Inc | All waters of the Atlantic Ocean east of Miami Beach, FL encompassed within a line connecting the following points: Starting at Point 1 in position 25°49′14″ N., 80°07′13″ W.; thence east to Point 2 in position 25°49′13″ N., 80°06′48″ W.; thence southwest to Point 3 in 25°46′00″ N., 80°07′26″ W.; thence west to Point 4 in position 25°46′00″ N., 80°07′51″ W.; thence northeast back to origin.
6. 1st or 2nd weekend in June | West Palm Beach Triathlon | Game On Sports Marketing Group | All waters of the Intracoastal Waterway in West Palm Beach, Florida between the Flagler Memorial Bridge to the Royal Palm Way Bridge.
7. 2nd or 3rd weekend in September | Publix Escape to Miami Triathlon | US Road Sports and Entertainment of Florida, LLC | All waters of Biscayne Bay, east of Margaret Pace Park, Miami, FL encompassed within a line connecting the following points: Starting at Point 1 in position 25°47′40″ N., 80°11′07″ W.; thence northeast to Point 2 in position 25°48′13″ N., 80°10′48″ W.; thence southeast to Point 3 in 25°47′59″ N., 80°10′34″ W.; thence south to Point 4 in position 25°47′52″ N., 80°10′34″ W.; thence southwest to Point 5 in position 25°47′33″ N., 80°11′07″ W.; thence north back to origin.
8. 2nd or 3rd weekend in October | Ironman 70.3 | Miami Tri Events | All waters of Biscayne Bay located east of Bayfront Park and encompassed within a line connecting the following points: Starting at Point 1 in position 25°46′44″ N., 080°11′00″ W.; thence southeast to Point 2 in position 25°46′24″ N., 080°10′44″ W.; thence southwest to Point 3 in position 25°46′18″ N., 080°11′05″ W.; thence north to Point 4 in position 25°46′33″ N., 080°11′05″ W.; thence northeast back to origin. All coordinates are North American Datum 1983.
9. 2nd or 3rd week in October | West Palm Beach World Championship | Offshore Powerboat Association LLC | All waters of the Atlantic Ocean east of Jupiter, FL encompassed within a line connecting the following points: Starting at Point 1 in position 26°56′06″ N., 80°04′06″ W.; thence northeast to Point 2 in position 26°56′11″ N., 80°03′38″ W.; thence southeast to Point 3 in 26°53′11″ N., 80°02′35″ W.; thence southwest to Point 4 in position 26°53′03″ N., 80°03′06″ W.; thence northwest back to origin.
10. 1st or 2nd weekend in November | Red Bull Flugtag | Red Bull North America | All waters of Biscayne Bay, Miami, FL between Bayfront Park and the Intercontinental-Miami Hotel encompassed within a line connecting the following points: Starting at point 1 in position 25°46′32″ N., 80°11′06″ W.; thence southeast to point 2 in position 25°46′30″ N., 80°11′04″ W.; thence south to point 3 in position 25°46′26″ N., 80°11′04″ W.; thence southwest to point 4 in position 25°46′25″ N., 80°11′06″ W.; thence north back to origin.
11. 1st or 2nd weekend in December | Boynton & Delray Holiday Boat Parade | Boynton Reach Community Redevelopment Agency | All waters within a moving zone that will begin at Boynton Inlet and end at the C-15 Canal, which will include a buffer zone extending 50 yards ahead of the lead parade vessel and 50 yards astern of the last participating vessel and 50 yards on either side of the parade.
12. 1st or 2nd weekend in December | Palm Beach Holiday Boat Parade | Marine Industries Association of Palm Beach County | All waters within a moving zone that will begin at Lake Worth Daymarker 28 in North Palm Beach and end at Loxahatchee River Daymarker 7 east of the Glynn Mayo Highway Bridge in Jupiter, FL, which will include a buffer zone extending 50 yards ahead of the lead parade vessel and 50 yards astern of the last participating vessel and 50 yards on either side of the parade.
13. 2nd or 3rd weekend in December | Miami Outboard Club Holiday Boat Parade | Miami Outboard Club | All waters within a moving zone that will transit as follows: the marine parade will begin at the Miami Outboard Club on Watson Island, head north around Palm Island and Hibiscus Island, head east between Di Lido Island, south through Meloy Channel, west through Government Cut to Bicentennial Park, south to the Dodge Island Bridge, south in the Intracoastal Waterway to Claughton Island, circling back to the north in the Intracoastal Waterway to end at the Miami Outboard Club. This will include a buffer zone extending to 50 yards ahead of the lead vessel and 50 yards astern of the last participating vessel and 50 yards on either side of the parade.
14. 2nd or 3rd weekend in December | Seminole Hard Rock Winterfest Holiday Boat Parade | Winterfest, Inc | All waters within a moving zone that will begin at Cooley's Landing Marina and end at Lake Santa Barbara, which will include a buffer zone extending 50 yards ahead of the lead parade vessel and 50 yards astern of the last participating vessel and 50 yards on either side of the parade.
15. 2nd or 3rd weekend in December | City of Pompano Beach Holiday Boat Parade | Greater Pompano Beach Chamber of Commerce | All waters within a moving zone that will begin at Lake Santa Barbara and head north on the Intracoastal Waterway to end at the Hillsboro Bridge, which will include a buffer zone extending 50 yards ahead of the lead parade vessel and 50 yards astern of the last participating vessel and 50 yards on either side of the parade.
(b) COTP Zone San Juan; Special Local Regulations
1. 1st Friday, Saturday, and Sunday of February | CNSJ International Regatta | Club Nautico de San Juan | San Juan, Puerto Rico; (1) Outer Harbor Race Area. All waters of Bahia de San Juan within a line connecting the following points: Starting at Point 1 in position 18°28.4′ N., 66°07.6′ W.; then south to Point 2 in position 18°28.1′ N., 66°07.8′ W.; then southeast to Point 3 in position 18°27.8′ N., 66°07.4′ W.; then southeast to point 4 in position 18°27.6′ N., 66°07.3′ W.; then west to point 5 in position 18°27.6′ N., 66°07.8′ W.; then north to point 6 in position 18°28.4′ N., 66°07.8′ W.; then east to the origin.
|  |  | (2) Inner Harbor Race Area; All waters of Bahia de San Juan within a line connecting the following points: Starting at Point 1 in position 18°27.6′ N., 66°07.8′ W.; then east to Point 2 in position 18°27.6′ N., 66°07.1′ W.; then southeast to Point 3 in position 18°27.4′ N., 66°06.9′ W.; then west to point 4 in position 18°27.4′ N., 66°07.7′ W.; then northwest to the origin.
2. Last Full Weekend of March | St. Thomas International Regatta | St. Thomas Yacht Club | St. Thomas, U.S. Virgin Islands; All waters of St. Thomas Harbor encompassed within the following points: Starting at Point 1 in position 18°19.9′ N., 64°55.9′ W.; thence east to Point 2 in position 18°19.97′ N., 64°55.8′ W.; thence southeast to Point 3 in position 18°19.6′ N., 64°55.6′ W.; thence south to point 4 in position 18°19.1′ N., 64°55.5′ W.; thence west to point 5 in position 18°19.1′ N., 64°55.6′ W.; thence north to point 6 in position 18°19.6′ N., 64°55.8′ W.; thence northwest back to origin at Harbor, St. Thomas, San Juan.
3. Last week of April | St. Thomas Carnival | Virgin Islands Carnival Committee | St. Thomas, U.S. Virgin Islands; (1) Race Area. All waters of the St. Thomas Harbor located around Hassel Island, St. Thomas, U.S. Virgin Island encompassed within the following points: Starting at Point 1 in position 18°20.2′ N., 64°56.1′ W.; thence southeast to Point 2 in position 18°19.7′ N., 64°55.7′ W.; thence south to Point 3 in position 18°19.4′ N., 64°55.7′ W.; thence southwest to point 4 in position 18°19.3′ N., 64°56.0′ W.; thence northwest to point 5 in position 18°19.9′ N., 64°56.5′ W.; thence northeast to point 6 in position 18°20.2′ N., 064°56.3′ W.; thence east back to origin.
|  |  | (2) Jet Ski Race Area. All waters encompassed the following points: Starting at Point 1 in position 18°20.1′ N., 64°55.9′ W.; thence west to Point 2 in position 18°20.1′ N., 64°56.1′ W.; thence north to Point 3 in position 18°20.3′ N., 64°56.1′ W.; thence east to Point 4 in position 18°20.3′ N., 64°55.9′ W.; thence south back to origin.
|  |  | (3) Buffer Zone. All waters of the St. Thomas Harbor located around Hassel Island, encompassed within the following points: Starting at Point 1 in position 18°20.3′ N., 64°55.9′ W.; thence southeast to Point 2 in position 18°19.7′ N., 64°55.7′ W.; thence south to Point 3 in position 18°19.3′ N., 64°55.72′ W.; thence southwest to Point 4 in position 18°19.2′ N., 64°56′ W.; thence northwest to Point 5 in position 18°19.9′ N., 64°56.5′ W.; thence northeast to Point 6 in position 18°20.3′ N., 64°56.3′ W.; thence east back to origin.
|  |  | (4) Spectator Area. All waters of the St. Thomas Harbor located east of Hassel Island, encompassed within the following points: Starting at Point 1 in position 18°20.3′ N., 64°55.8′ W.; thence southeast to Point 2 in position 18°19.9′ N., 64°55.7′ W.; thence northeast to Point 3 in position 18°20.2′ N., 64°55.5′ W.; thence northwest back to origin.
4. 1st Sunday of May | Ironman 70.3 St. Croix | Project St. Croix, Inc | St. Croix (Christiansted Harbor), U.S. Virgin Islands; All waters encompassed within the following points: point 1 on the shoreline at Kings Wharf at position 17°44′51″ N., 064°42′16″ W., thence north to point 2 at the southwest corner of Protestant Cay in position 17°44′56″ N., 064°42′12″ W., then east along the shoreline to point 3 at the southeast corner of Protestant Cay in position 17°44′56″ N., 064°42′08″ W., thence northeast to point 4 at Christiansted Harbor Channel Round Reef Northeast Junction Lighted Buoy RR in position 17°45′24″ N., 064°41′45″ W., thence southeast to point 5 at Christiansted Schooner Channel Lighted Buoy 5 in position 17°45′18″ N., 064°41′43″ W., thence southwest to point 6 at Christiansted Harbor Channel Buoy 15 in position 17°44′56″ N., 064°41′56″ W., thence southwest to point 7 on the shoreline north of Fort Christiansted in position 17°44′51″ N., 064°42′05″ W., thence west along the shoreline to origin.
5. July 4th | Fireworks Display | St. John Festival & Cul., Org | St. John (West of Cruz Bay/Northeast of Steven Cay), U.S. Virgin Islands; All waters from the surface to the bottom for a radius of 200 yards centered around position 18°19′55″ N., 064°48′06″ W.
6. 3rd Week of July, Sunday | San Juan Harbor Swim | Municipality of Cataño | San Juan Harbor, San Juan, Puerto Rico; All waters encompassed within the following points: point 1: La Puntilla Final, Coast Guard Base at position 18°27′33″ N., 066°07′00″ W., then south to point 2: Cataño Ferry Pier at position 18°26′36″ N., 066°07′00″ W., then northeast along the Cataño shoreline to point 3: Punta Cataño at position 18°26′40″ N., 066°06′48″ W., then northwest to point 4: Pier 1 San Juan at position 18°27′40″ N., 066°06′49″ W., then back along the shoreline to origin.
7. 1st Sunday of September | Cruce A Nado International | Cruce a Nado Inc | Ponce Harbor, Bahia de Ponce, San Juan; All waters of Bahia de Ponce encompassed within the following points: Starting at Point 1 in position 17°58.9′ N., 66°37.5′ W.; thence southwest to Point 2 in position 17°57.5′ N., 66°38.2′ W.; thence southeast to Point 3 in position 17°57.4′ N., 66°37.9′ W.; thence northeast to point 4 in position 17°58.7′ N., 66°37.3′ W.; thence northwest along the northeastern shoreline of Bahia de Ponce to the origin.
8. 2nd Sunday of October | St. Croix Coral Reef Swim | The Buccaneer Resort | St. Croix, U.S. Virgin Islands; All waters of Christiansted Harbor within the following points: Starting at Point 1 in position 18°45.7′ N., 64°40.6′ W.; then northeast to Point 2 in position 18°47.3′ N., 64°37.5 W.; then southeast to Point 3 in position 17°46.9′ N., 64°37.2′ W.; then southwest to point 4 in position 17°45.51′ N., 64°39.7′ W.; then northwest to the origin.
9. December 31st | Fireworks St. Thomas, Great Bay | Mr. Victor Laurenza, Pyrotecnico, New Castle, PA | St. Thomas (Great Bay area), U.S. Virgin Islands; All waters within a radius of 600 feet centered around position 18°19′14″ N., 064°50′18″ W.
10. December—1st week | Christmas Boat Parade | St. Croix Christmas Boat Committee | St. Croix (Christiansted Harbor), U.S. Virgin Islands; 200 yards off-shore around Protestant Cay beginning in position 17°45′56″ N., 064°42′16″ W., around the cay and back to the beginning position.
11. December—2nd week | Christmas Boat Parade | Club Nautico de San Juan | San Juan, Puerto Rico; Parade route. All waters of San Juan Harbor within a moving zone that will begin at Club Nautico de San Juan, move towards El Morro and then return, to Club Nautico de San Juan; this zone will at all times extend 50 yards in front of the lead vessel, 50 yards behind the last vessel, and 50 yards out from all participating vessels.
(c) COTP Zone Key West; Special Local Regulations
1. January 1st | Blessing of the Fleet | Islamorada Charter Boat Association | From Whale Harbor Channel to Whale Harbor Bridge, Islamorada, Florida.
2. January through April, last Monday or Tuesday | Wreckers Cup Races | Schooner Wharf Bar | Key West Harbor to Sand Key, Florida (Gulf of Mexico side).
3. 3rd Week of January, Monday-Friday | Yachting Key West Race Week | Premiere Racing, Inc | Inside the reef on either side of main ship channel, Key West Harbor Entrance, Key West, Florida.
4. 1st Saturday of February | The Bogey | Florida Bay Outfitters | Blackwater Sound (entire sound), Key Largo, Florida.
5. 1st Sunday of February | The Bacall | Florida Bay Outfitters | Blackwater Sound (entire sound), Key Largo, Florida.
6. 3rd Weekend of April | Miami to Key Largo Sailboat Race | MYC Youth Sailing Foundation, Inc | Biscayne Bay and Intracoastal Waterway from the Rickenbacker Causeway in Miami, Florida to Key Biscayne to Cape Florida to Soldier Key to Sands Key to Elliot Key to Two Stacks to Card Sound to Barnes Sound to Blackwater Sound in Key Largo, Florida no closer than 500 feet from each vessel.
7. Last Friday of April | Conch Republic Navy Parade and Battle | Conch Republic | All waters approximately 150 yards offshore from Ocean Key Sunset Pier, Mallory Square and the Hilton Pier within the Key West Harbor in Key West, Florida.
8. 1st Weekend of June | Swim around Key West | Florida Keys Community College | Beginning at Smather's Beach in Key West, Florida. The regulated area will move, west to the area offshore of Fort Zach State Park, north through Key West Harbor, east through Flemming Cut, south on Cow Key Channel and west back to origin. The center of the regulated area will at all times remain approximately 50 yards offshore of the island of Key West Florida; extend 50 yards in front of the lead safety vessel preceding the first race participants; extend 50 yards behind the safety vessel trailing the last race participants; and at all times extend 100 yards on either side of the race participants and safety vessels.
9. 2nd Week of November, Wednesday-Sunday | Key West World Championship | Super Boat International Productions, Inc | In the Atlantic Ocean, off the tip of Key West, Florida, on the waters of the Key West Main Ship Channel, Key West Turning Basin, and Key West Harbor Entrance.
10. 1st Thursday of December | Boot Key Harbor Christmas Boat Parade | Dockside Marina | Boot Key Harbor (entire harbor), Marathon, Florida.
11. 2nd Sunday of December | Key Colony Beach Holiday Boat Parade | Key Colony Beach Community Association | Key Colony Beach, Marathon, Florida, between Vaca Cut Bridge and Long Key Bridge.
12. 3rd Saturday of December | Key Largo Boat Parade | Key Largo Boat Parade | From Channel Marker 41 on Dusenbury Creek in Blackwater Sound to tip of Stillwright Point in Blackwater Sound, Key Largo, Florida.
13. 3rd Saturday of December | Key West Lighted Boat Parade | Schooner Wharf Bar | All waters between Christmas Tree Island and Coast Guard Station thru Key West Harbor to Mallory Square, approximately 35 yards from shore.
(d) COTP Zone St. Petersburg; Special Local Regulations
1. 3rd Saturday of January | Gasparilla Children's Parade Air show | Air Boss and Consulting | All waters of Hillsborough Bay north of an line drawn at 27°55′ N., west of Davis Islands, and south of the Davis Island Bridge.
2. Last Friday, Saturday, and Sunday of March | Honda Grand Prix | Honda Motor Company and City of St. Petersburg | Demens Landing St. Petersburg Florida; All waters within 100 ft. of the seawall.
3. Last Friday, Saturday, and Sunday of March | St. Pete Grand Prix Air show | Honda Motor Company and City of St. Petersburg | South Yacht Basin, Bayboro Harbor, Gulf of Mexico, St. Petersburg, Florida, within two nautical miles of the Albert Whitted Airport.
4. Last Sunday of April | St. Anthony's Triathlon | St. Anthony's Healthcare | Gulf of Mexico, St. Petersburg, Florida within one nautical mile of Spa Beach.
5. July 4th | Freedom Swim | None | Peace River, St. Petersburg, Florida within two nautical miles of the US 41 Bridge.
6. 1st Sunday of July | Suncoast Offshore Grand Prix | Suncoast Foundation for the Handicapped | Gulf of Mexico in the vicinity of Sarasota, Florida from New Pass to Siesta Beach out to eight nautical miles.
7. 3rd Friday, Saturday, and Sunday of September | Homosassa Raft Race | Citrus 95 FM radio | Homosassa River in Homosassa, Florida Between Private Green Dayboard 81 east located in approximate position 28°46′58.937″ N., 082°37′25.131″ W. to private Red Dayboard 2 located in approximate position 28°47′19.939″ N., 082°36′44.36″ W.
8. September 30th | Clearwater Superboat Race | Superboat International | (1) Race Area; All waters of the Gulf of Mexico near St. Petersburg, Florida, contained within the following points: 27°58.96′ N., 82°50.05′ W., thence to position 27°58.60′ N., 82°50.04′ W., thence to position 27°58.64′ N., 82°50.14′ W., thence to position 28°00.43′ N., 82°50.02′ W., thence to position 28°00.45′ N., 82°50.13′ W., thence back to the start/finish position;
|  |  | (2) Buffer Area; All waters of the Gulf of Mexico encompassed within the following points: 27°58.4′ N., 82°50.2′ W., thence to position 27°58.3′ N., 82°49.9′ W., thence to position 28°00.6′ N., 82°50.2′ W., thence to position 28°00.7′ N., 82°49.7′ W., thence back to position 27°58.4′ N., 82°50.2′ W.
|  |  | (3) Spectator Area; All waters of Gulf of Mexico seaward of the following points: 27°58.6′ N., 82°50.2′ W., thence to position 28°00.5′ N., 82°50.2′ W.
9. Last weekend of September | Cocoa Beach Grand Prix of the Seas | Powerboat P1-USA, LLC | Atlantic ocean at Cocoa Beach, Florida. Sheppard Park. All waters encompassed within the following points: Starting at point 1 in position 28°22.285′ N., 80°36.033′ W.; thence east to Point 2 in position 28°22.253′ N., 80°35.543′ W.; thence south to Point 3 in position 28°21.143′ N., 80°35.700′ W.; thence west to Point 4 in position 28°21.195′ N., 80°36.214′ W.; thence north back to the origin.
10. 2nd Friday, Saturday, and Sunday of October | St. Petersburg Airfest | City of St. Petersburg | South Yacht Basin, Bayboro Harbor, Gulf of Mexico, St. Petersburg, Florida all waters within 2 nautical miles of the Albert Whitted Airport.
11. 3rd Thursday, Friday, and Saturday of November | Ironman World Championship Triathlon | City of Clearwater & Ironman North America | Gulf of Mexico, Clearwater, Florida within 2 nautical miles of Clearwater Beach FL.
(e) COTP Zone Jacksonville; Special Local Regulations
1. Last Saturday of February | El Cheapo Sheepshead Tournament | Jacksonville Offshore Fishing Club | Mayport Boat Ramp, Jacksonville, Florida; 500 foot radius from the boat ramp.
2. 1st Saturday of March | Jacksonville Invitational | Stanton Rowing Foundation (May vary) | Ortega River Race Course, Jacksonville, Florida; South of Timuquana Bridge.
3. 1st Saturday of March | Stanton Invitational (Rowing Race) | Stanton Rowing Foundation | Ortega River Race Course, Jacksonville, Florida; South of Timuquana Bridge.
4. 1st weekend of March | Hydro X Tour | H2X Racing Promotions | Lake Dora, Tavares, Florida; All waters encompassed within the following points: Starting at Point 1 in position 28°47′59″ N., 81°43′41″ W.; thence south to Point 2 in position 28°47′53″ N., 81°43′41″ W.; thence east to Point 3 in position 28°47′53″ N., 81°43′19″ W.; thence north to Point 4 in position 28°47′59″ N., 81°43′19″ W.; thence west back to origin.
5. 2nd Full Weekend of March | TICO Warbird Air Show | Valiant Air Command | Titusville; Indian River, FL: All waters encompassed within the following points: Starting at the shoreline then due east to Point 1 at position 28°31′25.15″ N., 080°46′32.73″ W., then south to Point 2 located at position 28°30′55.42″ N., 080°46′32.75″ W., then due west to the shoreline.
6. 3rd Weekend of March | Tavares Spring Thunder Regatta | Classic Race Boat Association | Lake Dora, Florida, waters 500 yards seaward of Wooten Park.
7. Palm Sunday in March or April | Blessing of the Fleet—Jacksonville | City of Jacksonville Office of Special Events | St. Johns River, Jacksonville, Florida in the vicinity of Jacksonville Landing between the Main Street Bridge and Acosta Bride.
8. Palm Sunday in March or April | Blessing of the Fleet—St. Augustine | City of St. Augustine | St. Augustine Municipal Marina (entire marina), St. Augustine Florida.
9. 1st Full Weekend of April (Saturday and Sunday) | Mount Dora Yacht Club Sailing Regatta | Mount Dora Yacht Club | Lake Dora, Mount Dora, Florida—500 feet off Grantham Point.
10. 3rd Saturday of April | Jacksonville City Championships | Stanton Rowing Foundation | Ortega River Race Course, Jacksonville, Florida; South of Timuquana Bridge.
11. 3rd weekend of April | Florida Times Union Redfish Roundup | The Florida Times-Union | Sister's Creek, Jacksonville, Florida; All waters within a 100 yard radius of Jim King Park and Boat Ramp at Sister's Creek Marina, Sister's Creek.
12. 2nd Weekend in May | Saltwater Classic—Port Canaveral | Cox Events Group | All waters of the Port Canaveral Harbor located in the vicinity of Port Canaveral, Florida encompassed within the following points: Starting at Point 1 in position 28°24′32″ N., 080°37′22″ W., then north to Point 2 28°24′35″ N., 080°37′22″ W., then due east to Point 3 at 28°24′35″ N., 080°36′45″ W., then south to Point 4 at 28°24′32″ N., 080°36′45″, then west back to the original point.
13. 1st Friday of May | Isle of Eight Flags Shrimp Festival Pirate Landing and Fireworks | City of Fernandina Beach | All waters within a 500 yard radius around approximate position 30°40′15″ N., 81°28′10″ W.
14. 1st Saturday of May | Mug Race | The Rudder Club of Jacksonville, Inc | St. Johns River; Palatka to Buckman Bridge.
15. 3rd Friday—Sunday of May | Space Coast Super Boat Grand Prix | Super Boat International Productions, Inc | Atlantic Ocean in the vicinity of Cocoa Beach, Florida includes all waters encompassed within the following points: Starting at Point 1 in position 28°22′16″ N., 80°36′04″ W.; thence east to Point 2 in position 28°22′15″ N., 80°35′39″ W.; thence south to Point 3 in position 28°19′47″ N., 80°35′55″ W.; thence west to Point 4 in position 28°19′47″ N., 80°36′22″ W.; thence north back to origin.
16. 4th weekend of May | Memorial Day RiverFest | City of Green Cove Springs | St. Johns River, Green Cove Springs, Florida; All waters within a 500-yard radius around approximate position 29°59′39″ N., 081°40′33″ W.
17. Last full week of May (Monday-Friday) | Bluewater Invitational Tournament | Northeast Florida Marlin Association | There is a no-wake zone in affect from the St. Augustine City Marina out to the end of the St. Augustine Jetty's 6 a.m.-8 a.m. and 3 p.m.-5 p.m. during the above days.
18. 2nd weekend of June | Hydro X Tour | H2X Racing Promotions | Lake Dora, Tavares, Florida; All waters encompassed within the following points: Starting at Point 1 in position 28°47′59″ N., 81°43′41″ W.; thence south to Point 2 in position 28°47′53″ N., 81°43′41″ W.; thence east to Point 3 in position 28°47′53″ N., 81°43′19″ W.; thence north to Point 4 in position 28°47′59″ N., 81°43′19″ W.; thence west back to origin.
19. 1st Saturday of June | Florida Sport Fishing Association Offshore Fishing Tournament | Florida Sport Fishing Association | Port Canaveral, Florida from Sunrise Marina to the end of Port Canaveral Inlet.
20. 2nd weekend of June (Saturday and Sunday) | Kingfish Challenge | Ancient City Game Fish Association | There is a no-wake zone in affect from the St. Augustine City Marina in St. Augustine, Florida out to the end of the St. Augustine Jetty's 6 a.m.-8 a.m. and 3 p.m.-5 p.m.
21. 3rd Friday-Sunday of June | Daytona Beach Grand Prix of the Sea | Powerboat P1-USA | All waters of the Atlantic Ocean East of Cocoa Beach, Florida encompassed within the following points: Starting at Point 1 in position 29°14′60″ N., 81°00′77″ W.; thence east to Point 2 in position 29°14′78″ N., 80°59′802″ W.; thence south to Point 3 in position 28°13′860″ N., 80°59′76″ W.; thence west to Point 4 in position 29°13′68″ N., 81°00′28″ W.; thence north back to origin.
22. 3rd Saturday of July | Halifax Rowing Association Summer Regatta | Halifax Rowing Association | Halifax River, Daytona, Florida, south of Memorial Bridge—East Side.
23. 3rd week of July | Greater Jacksonville Kingfish Tournament | Jacksonville Marine Charities, Inc | Jacksonville, Florida; All waters of the St. Johns River, from lighted buoy 10 (LLNR 2190) in approximate position 30°24′22″ N., 081°24′59″ W. to Lighted Buoy 25 (LLNR 7305).
24. Last weekend of September | Jacksonville Dragon Boat Festival | In the Pink Boutique, Inc | St. John's River, Jacksonville, Florida. In front of the Landing, between the Acosta & Main Street bridges From approximate position 30°19′26″ N., 081°39′47″ W. to approximate position 30°19′26″ N., 81°39′32″ W.
25. 2nd week of October | First Coast Head Race | Stanton Rowing Foundation | St. Johns River and Arlington River, Jacksonville, Florida, starting near the Arlington Marina and ending on the Arlington River near the Atlantic Blvd. Bridge.
26. 1st weekend of November | Hydro X Tour | H2X Racing Promotions | Lake Dora, Tavares, Florida; All waters encompassed within the following points: Starting at Point 1 in position 28°47′59″ N., 81°43′41″ W.; thence south to Point 2 in position 28°47′53″ N., 81°43′41″ W.; thence east to Point 3 in position 28°47′53″ N., 81°43′19″ W.; thence north to Point 4 in position 28°47′59″ N., 81°43′19″ W.; thence west back to origin.
27. 3rd Weekend of November | Tavares Fall Thunder Regatta | Classic Race Boat Association | Lake Dora, Florida, waters 500 yards seaward of Wooten Park.
28. 2nd Saturday of December | St. Johns River Christmas Boat Parade | St. Johns River Christmas Boat Parade, Inc | St. Johns River, Deland, Florida; Whitehair Bridge, Deland to Lake Beresford.
29. 2nd Saturday of December | Christmas Boat Parade (Daytona Beach/Halifax River) | Halifax River Yacht Club | Daytona Beach, Florida; Halifax River from Seabreeze Bridge to Halifax Harbor Marina.
(f) COTP Zone Savannah; Special Local Regulations
1. May, 2nd weekend, Sunday | Blessing of the Fleet—Brunswick | Knights of Columbus—Brunswick | Brunswick River from the start of the East branch of the Brunswick River (East Brunswick River) to the Golden Isles Parkway Bridge.
2. 3rd full weekend of July | Augusta Southern Nationals Drag Boat Races | Augusta Southern Nationals | Savannah River, Augusta, Georgia, from the US Highway 1 (Fifth Street) Bridge at mile 199.5 to Eliot's Fish Camp at mile 197.
3. Last weekend of September | Ironman 70.3 | Ironman | All waters of the Savannah River encompassed within the following points: Starting at Point 1 in position 33°28′44″ N., 81°57′53″ W.; thence northeast to Point 2 in position 33°28′50″ N., 81°57′50″ W.; thence southeast to Point 3 in position 33°27′51″ N., 81°55′36″ W.; thence southwest to Point 4 in position 33°27′47″ N., 81°55′43″ W.; thence northwest back to origin.
4. 1st Saturday after Thanksgiving Day in November | Savannah Harbor Boat Parade of Lights and Fireworks | Westin Resort, Savannah | Savannah River, Savannah Riverfront, Georgia, Talmadge bridge to a line drawn at 146 degrees true from Dayboard 62.
5. 2nd Saturday of November | Head of the South Regatta | Augusta Rowing Club | Savannah River, Augusta, Georgia; All waters within a moving zone, beginning at Daniel Island Pier in approximate position 32°51′20″ N., 079°54′06″ W., South along the coast of Daniel Island, across the Wando River to Hobcaw Yacht Club, in approximate position 32°49′20″ N., 079°53′49″ W., South along the coast of Mt. Pleasant, S.C., to Charleston Harbor Resort Marina, in approximate position 32°47′20″ N., 079°54′39″ W. There will be a temporary Channel Closer from 0730 to 0815 on June 01, 2013 between Wando River Terminal Buoy 3 (LLNR 3305), and Wando River Terminal Buoy 5 (LLNR 3315). The zone will at all times extend 75 yards in front of the lead safety vessel preceding the first race participants; 75 yards behind the safety vessel trailing the last race participants; and at all times extending 100 yards on either side of the race participants and safety vessels.
(g) COTP Zone Charleston; Special Local Regulations
1. 2nd and 3rd weekend of April | Charleston Race Week | Sperry Top-Sider | Charleston Harbor and Atlantic Ocean, South Carolina, All waters encompassed within an 800 yard radius of position 32°46′39″ N., 79°55′10″ W., All waters encompassed within a 900 yard radius of position 32°45′48″ N., 79°54′46″ W., All waters encompassed within a 900 yard radius of position 32°45′44″ N., 79°53′32″ W.
2. 1st week of May | Low Country Splash | Logan Rutledge | Wando River, Cooper River, Charleston Harbor, South Carolina, including the waters of the Wando River, Cooper River, and Charleston Harbor from Daniel Island Pier, in approximate position 32°51′20″ N., 079°54′06″ W., south along the coast of Daniel Island, across the Wando River to Hobcaw Yacht Club, in approximate position 32°49′20″ N., 079°53′49″ W., south along the coast of Mt. Pleasant, South Carolina, to Charleston Harbor Resort Marina, in approximate position 32°47′20″ N., 079°54′39″ W., and extending out 150 yards from shore.
3. 2nd week of June | Beaufort Water Festival | City of Beaufort | Atlantic Intracoastal Waterway, Bucksport, South Carolina; All waters of the Atlantic Intracoastal Waterway encompassed within the following points; starting at point 1 in position 33°39′11.5″ N., 079°05′36.8″ W.; thence west to point 2 in position 33°39′12.2″ N., 079°05′47.8″ W.; thence south to point 3 in position 33°38′39.5″ N., 079°05′37.4″ W.; thence east to point 4 in position 33°38′42.3″ N., 79°05′30.6″ W.; thence north back to origin.
4. 3rd week of September | Swim Around Charleston | Kathleen Wilson | Wando River, main shipping channel of Charleston Harbor, Ashley River, Charleston, South Carolina; A moving zone around all waters within a 75-yard radius around Swim Around Charleston participant vessels that are officially associated with the swim. The Swim Around Charleston swimming race consists of a 10-mile course that starts at Remley′s Point on the Wando River in approximate position 32°48′49″ N., 79°54′27″ W., crosses the main shipping channel of Charleston Harbor, and finishes at the General William B. Westmoreland Bridge on the Ashley River in approximate position 32°50′14″ N., 80°01′23″ W.
5. 2nd week of November | Head of the South | Augusta Rowing Club | Upper Savannah River mile marker 199 to mile marker 196, Georgia.
6. 2nd week December | Charleston Harbor Christmas Parade of Boats | City of Charleston | Charleston harbor, South Carolina, from Anchorage A through Bennis Reach, Horse Reach, Hog Island Reach, Town Creek Lower Reach, Ashley River, and finishing at City Marina.

Dated: June 2, 2016.
S.A. Buschman,
Rear Admiral, U.S. Coast Guard, Commander, Seventh Coast Guard District.

[FR Doc. 2016-13875 Filed 6-10-16; 8:45 am]

BILLING CODE 9110-04-P